FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 001454F.

Name: Aarid Consolidators and Forwarders, Inc.

Address: 1340 Chesapeake Ave., Baltimore, MD 21226.

Date Revoked: December 31, 2007.

Reason: Surrendered license voluntarily.

License Number: 004476F.

Name: Arthur L. Griffin dba Pathfinder Logistics.

Address: 34233 Pacific Highway So., Ste. 127, Federal Way, WA 98003-1978.

Date Revoked: April 13, 2008.

Reason: Failed to maintain a valid bond.

License Number: 017753N.

Name: Associated Consolidators Express dba A.C.E. Balikbayan Boxes Direct.

Address: 1273 Industrial Parkway, #290, Hayward, CA 94544.

Date Revoked: April 3, 2008.

Reason: Failed to maintain a valid bond.

License Number: 020090F.

Name: Caribbean Enterprises Inc.

Address: 1032 River Street, Hyde Park, MA 02136.

Date Revoked: April 20, 2008.

Reason: Failed to maintain a valid bond.

License Number: 002259F.

Name: Donald T. Maley dba Empire Sea-Air Company.

Address: 195 N. Village Ave., Apt. 2D, Rockville Ctr., NY 11570.

Date Revoked: April 13, 2008.

Reason: Failed to maintain a valid bond.

License Number: 020341NF.

Name: Miami International Freight, Inc.

Address: 6109 NW 72nd Ave., Miami, FL 33166.

Date Revoked: April 10, 2008.

Reason: Failed to maintain valid bonds.

License Number: 020906N.

Name: National Consolidation & Distribution Inc.

Address: 400 Maltese Drive, Totowa, NJ 07512.

Date Revoked: April 12 2008.

Reason: Failed to maintain a valid bond.

License Number: 018676NF.

Name: Skysea Freight International USA LLC.

Address: 2250 East Devon Ave., Ste. 230, Des Plaines, IL 60018.

Date Revoked: April 3, 2008.

Reason: Failed to maintain valid bonds.

License Number: 002816F.

Name: Total Ex-Port, Inc.

Address: 10 Fifth Street, Valley Stream, NY 11581.

Date Revoked: April 1, 2008.

Reason: Surrendered license voluntarily.

License Number: 019333N.

Name: Yudong Logistics, Inc.

Address: 690 Knox Street, #220, Torrance, CA 90502.

Date Revoked: April 9, 2008.

Reason: Failed to maintain a valid bond.

Sandra L. Kusumoto,
Director, Bureau of Certification and Licensing.

[FR Doc. E8-10132 Filed 5-6-08; 8:45 am]

BILLING CODE 6730-01-P